FEDERAL COMMUNICATIONS COMMISSION

47 CFR Part 73

[MB Docket No. 22-420; RM-11937; DA 23-146; FR ID 129129]

Television Broadcasting Services Yuma, Arizona

AGENCY: Federal Communications Commission.

ACTION: Final rule.

SUMMARY: On December 12, 2022, the Media Bureau, Video Division (Bureau) issued a Notice of Proposed Rulemaking (NPRM) in response to a petition for rulemaking filed by Gray Television Licensee, LLC (Petitioner or Gray), which holds a construction permit for channel 11 at Yuma, Arizona as the winning bidder in Auction 112. Gray requests the substitution of channel 27 for channel 11 at Yuma in the Table of TV Allotments. For the reasons set forth in the Report and Order referenced below, the Bureau amends FCC regulations to substitute channel 27 for channel 11 at Yuma.

DATES: Effective March 6, 2023.

FOR FURTHER INFORMATION CONTACT: Joyce Bernstein, Media Bureau, at (202) 418-1647 or Joyce.Bernstein@fcc.gov.

SUPPLEMENTARY INFORMATION: The proposed rule was published at 87 FR 76434 on December 13, 2022. The Petitioner filed comments in support of the petition reaffirming its commitment to apply for channel 27. No other comments were filed.

The Bureau believes the public interest would be served by substituting channel 27 for channel 11 at Yuma, Arizona since grant of the proposed channel substitution will provide a robust signal for over-the-air reception while avoiding the well-documented indoor reception issues with digital VHF stations which the Commission has recognized. The proposal complies with all relevant technical requirements for amendment of the Table of TV Allotments, including the interference protection requirements of section 73.616 of the Commission's rules, and the petition further demonstrates that the proposed channel 27 facility will provide full principal community coverage to Yuma, Arizona. Additionally, no change in transmitting location is proposed from that specified in the current construction permit.

This is a synopsis of the Commission's Report and Order, MB Docket No. 22-420; RM-11937; DA 23-146, adopted February 23, 2023, and released February 24, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff Media Bureau.

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of TV Allotments, under Arizona, by revising the entry for Yuma to read as follows:

§ 73.622 Digital television table of allotments.

* * * * *

(j) * * *

Community | Channel No.
* * * * *
ARIZONA
* * * * *
Yuma | 13, 27
* * * * *

[FR Doc. 2023-04387 Filed 3-3-23; 8:45 am]

BILLING CODE 6712-01-P